DEPARTMENT OF THE INTERIOR

National Park Service

General Management Plan, Rosie the Riveter/World War II Home Front National Historical Park, Contra Costa County, CA; Notice of Termination of the Environmental Impact Statement

SUMMARY: The National Park Service is terminating preparation of an Environmental Impact Statement (EIS) for the General Management Plan, Rosie the Riveter/World War II Home Front National Historical Park, Richmond, California. A Notice of Intent to prepare the EIS for the General Management Plan (GMP) was published in the Federal Register on March 26, 2002. The National Park Service has since determined that an Environmental Assessment (EA) rather than an EIS is the appropriate environmental documentation for the GMP; this determination includes due consideration of all public comment and other agency information received during the public scoping period.

Background: The Rosie the Riveter/World War II Home Front National Historical Park includes the Ford Assembly Building, the Richmond Shipyard #3 (currently known as the Port of Richmond, Terminals 5, 6 and 7), the Maritime and Ruth Powers Child Development Centers, Atchison Village housing, Kaiser Field Hospital, Fire Station 67A, the Rosie the Riveter Memorial, the S.S. Red Oak Victory, and city parks referred to in the authorizing legislation as Shimada Peace Memorial Park, Westshore Park (now known as Lucretia Edwards Park), Sheridan Observation Point Park, Vincent Park, and the Bay Trail-Esplanade. The National Park Service (NPS) does not own or manage these sites, but is authorized to interpret the story of Rosie the Riveter and the World War II home front, conduct and maintain oral histories, operate an education center, provide visitor services, provide technical assistance, enter into agreements to support preservation and interpretation, and acquire certain structures from willing sellers. The NPS will collaborate with the public and private owners of these sites to plan for and encourage their preservation and use.

Pub. L. 106-352 requires the GMP to include a plan to preserve the historic setting of the Rosie the Riveter/World War II Home Front National Historical Park, which must be jointly developed and approved by the City of Richmond. Accordingly, the GMP will establish the overall direction for the park, setting a broad vision and management goals for managing this partnership park for the next 15 to 20 years. The plan was originally scoped as an EIS. No concerns or issues expressed during public scoping and preliminary development of the GMP convey either the potential for controversy or identify potential for significant impacts.

In the GMP effort to date the cooperating park partners and NPS planning team have developed three alternatives for the historical park. All three alternative visions support preserving the historic scene while providing different approaches for visitors to experience and learn about Rosie the Riveter and the American World War II Home Front. Initial analysis of the alternatives has revealed neither major effects nor significant or unacceptable impacts on the human environment, nor any potential for impairing park resources and values. Potential impacts as may arise from implementing any of the alternatives are expected to range from negligible to moderate in magnitude. All the GMP alternative visions provide for preserving the historic scene with the NPS providing technical assistance to help support the decisions and actions of the park partners. All uses expected to occur under any of the alternative visions are deemed to be appropriate. For these reasons the NPS determined the intensity of conservation planning and environmental impact analysis needed for the GMP is an EA.

SUPPLEMENTARY INFORMATION: The draft GMP and EA will be integrated; the combined document is expected to be distributed for a 60-day public review and comment period in the summer/fall of 2007. The NPS will notify the public by mail, Web site postings, local and regional media, and other means, to provide regularly updated information on where and how to obtain a copy of the EA, how to comment on the EA, and the confirmed dates for public meetings to be hosted in Richmond and Oakland during the 60-day public review period. For further information contact Martha Lee, Superintendent, Rosie the Riveter/World War II Home Front National Historical Park, 1401 Marina Way South, Richmond, CA 94804 (telephone: (510) 232-5050; e-mail: Martha_lee@nps.gov).

A decision regarding selection of an alternative vision for the new GMP is expected to be made in the fall/winter of 2007. The official responsible for the final decision is the Regional Director, Pacific West Region, National Park Service. Subsequently the official responsible for implementing the new GMP is the Superintendent, Rosie the Riveter/World War II Home Front National Historical Park.

Dated: March 28, 2007.
Patricia L. Neubacher,
Acting Regional Director, Pacific West Region.

[FR Doc. E7-8648 Filed 5-4-07; 8:45 am]

BILLING CODE 4312-6A-P